ENVIRONMENTAL PROTECTION AGENCY

[Regional Docket No. V-2004-5, FRL-7991-9]

Clean Air Act Operating Permit Program; Petition for Objection to State Operating Permits for Midwest Generation Waukegan Station

AGENCY: Environmental Protection Agency (EPA).

ACTION: Notice of final orders on petitions to object to a state operating permit.

SUMMARY: This document announces that the EPA Administrator has responded to a citizen petition asking EPA to object to an operating permit proposed by the Illinois Environmental Protection Agency (IEPA). Specifically, the Administrator has partially granted and partially denied the petition submitted by the Lake County Conservation Alliance to object to the proposed operating permit for the Midwest Generation Waukegan station.

Pursuant to section 505(b)(2) of the Clean Air Act (Act), Petitioner may seek judicial review in the United States Court of Appeals for the appropriate circuit of those portions of the petition which EPA denied. Any petition for review shall be filed within 60 days from the date this notice appears in the Federal Register, pursuant to section 307 of the Act.

ADDRESSES: You may review copies of the final orders, the petitions, and other supporting information at the EPA Region 5 Office, 77 West Jackson Boulevard, Chicago, Illinois 60604. If you wish to examine these documents, you should make an appointment at least 24 hours before visiting day. Additionally, the final order for the Midwest Generation Waukegan station is available electronically at: http://www.epa.gov/region07/programs/artd/air/title5/petitiondb/petitiondb2004.htm.

FOR FURTHER INFORMATION CONTACT: Pamela Blakley, Chief, Air Permitting Section, Air Programs Branch, Air and Radiation Division, EPA, Region 5, 77 West Jackson Boulevard, Chicago, Illinois 60604, telephone (312) 886-4447.

SUPPLEMENTARY INFORMATION: The Act affords EPA a 45-day period to review, and object to as appropriate, operating permits proposed by state permitting authorities. Section 505(b)(2) of the Act authorizes any person to petition the EPA Administrator within 60 days after the expiration of the EPA review period to object to state operating permits if EPA has not done so. Petitions must be based only on objections to the permit that were raised with reasonable specificity during the public comment period provided by the state, unless the petitioner demonstrates that it was impracticable to raise these issues during the comment period or the grounds for the issues arose after this period.

On January 29, 2004, the EPA received from the Lake County Conservation Alliance a petition requesting that EPA object to the proposed title V operating permit for the Midwest Generation Waukegan station. The petition raises issues regarding the permit issuance process and the permit itself. The Lake County Conservation Alliance alleged that the proposed permit (1) is legally inadequate because it does not impose an enforceable schedule to remedy non-compliance; (2) inappropriately provides for a permit shield that allows excess emissions during startup and malfunction, contrary to EPA policy; (3) fails to include applicable requirements; (4) fails to comply with the public notice requirements of the Act; (5) contains an inadequate statement of basis; (6) contains conditions that are not practically enforceable; (7) lacks adequate recordkeeping and recording requirements; (8) lacks origin and authority for each permit condition; (9) lacks adequate monitoring; and (10) is legally inadequate because it lacks the requirement to submit a compliance certification containing other such facts as IEPA may require to determine compliance.

On September 22, 2005, the Administrator issued an order partially granting and partially denying the petition. The order explains the reasons behind EPA's conclusion that the IEPA must: (1) Address in the permit record the Petitioner's comment regarding opacity exceedances; (2) determine if pre-existing state operating permit conditions are requirements with which Waukegan must comply, and either include the applicable requirements in the Title V permit, or explain in the statement of basis its reasoning for not including the requirements; (3) reopen the Waukegan permit (including a notice to the public stating the activities involved in the permit action) and make available to the public an adequate statement of basis which explains, among other things the reasons for each change to the state implementation plan (SIP) or construction permit terms. These explanations must be provided for any federally enforceable permit terms that have been newly established, modified, streamlined or deleted in the permit action; (4) remove “operational condition” and “operating parameters” from the permit or define the terms; (5) remove “reasonable steps” from the permit or define or provide criteria to determine “reasonable steps” that meet the requirements of the SIP; (6) either develop criteria for determining the normal range or develop another means to monitor compliance with the particulate matter (PM) emission limitations; (7) include a specific opacity limit or a method for determining an opacity limit that would correlate the results of the PM testing and the opacity limit in a manner that assures compliance with the PM limit, and incorporate into the permit specific operational limits (upper level or lower level) and/or operational ranges or a method for determining the ranges; and, (8) set a date that is as early as possible in the permit term by which Waukegan must conduct PM testing for use in establishing opacity monitoring and electrostatic precipitator parametric measures so that the permit includes appropriate monitoring conditions that are in effect during the permit term and assures compliance with the PM emission limitations for the coal-fired boilers for the entire term of the permit. The order also explains the reasons for denying Lake County Conservation Alliance's remaining claims.

Dated: October 14, 2005.
Bharat Mathur,
Acting Regional Administrator, Region 5.

[FR Doc. 05-21754 Filed 10-31-05; 8:45 am]

BILLING CODE 6560-50-P